OFFICE OF THE UNITED STATES TRADE REPRESENTATIVE

Fiscal Year 2020 Allocation of Additional Tariff-Rate Quota Volume for Raw Cane Sugar and Refined Sugar

AGENCY: Office of the United States Trade Representative.

ACTION: Notice.

SUMMARY: The Office of the United States Trade Representative (USTR) is providing notice of the allocations of additional Fiscal Year (FY) 2020 in-quota quantities of the tariff-rate quotas (TRQ) for imported raw cane and refined sugars as announced by the Secretary of Agriculture on April 3, 2020.

DATES: This notice is applicable on April 9, 2020.

FOR FURTHER INFORMATION CONTACT: Erin Nicholson, Office of Agricultural Affairs, at (202) 395-9419 or Erin.H.Nicholson@ustr.eop.gov.

SUPPLEMENTARY INFORMATION: Pursuant to Additional U.S. Note 5 to Chapter 17 of the Harmonized Tariff Schedule of the United States (HTSUS), the United States maintains TRQs for imports of raw cane and refined sugar. Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007, January 4, 1995).

On April 3, 2020, the Secretary of Agriculture announced an additional in-quota quantity of the TRQ for raw cane sugar for the remainder of FY 2020 (ending September 30, 2020) in the amount of 317,515 metric tons raw value (MTRV). See 85 FR 18913. The conversion factor is 1 metric ton equals 1.10231125 short tons. This quantity is in addition to the minimum amount to which the United States is committed under the World Trade Organization Uruguay Round Agreements (1,117,195 MTRV). USTR is allocating this additional quantity of 317,515 MTRV to the following countries in the amounts specified below:

Country | FY 2020 raw sugar TRQ increase allocation (MTRV)
Argentina | 19,185
Australia | 37,032
Barbados | 3,123
Belize | 4,908
Bolivia | 3,569
Brazil | 64,694
Colombia | 10,708
Costa Rica | 6,692
DR | 30,000
Ecuador | 4,908
El Salvador | 11,600
Eswatini (Swaziland) | 7,139
Fiji | 4,015
Guatemala | 21,417
Guyana | 5,354
Honduras | 4,462
India | 3,569
Malawi | 4,462
Mauritius | 5,354
Mozambique | 5,800
Nicaragua | 9,369
Panama | 10,000
Peru | 18,293
South Africa | 10,262
Thailand | 6,246
Zimbabwe | 5,354
Total | 317,515

USTR based these allocations on the countries' historical shipments to the United States. The allocations of the raw cane sugar TRQ to countries that are net importers of sugar are conditioned on receipt of the appropriate verifications of origin, and certificates for quota eligibility must accompany imports from any country for which an allocation has been provided.

The Secretary of Agriculture also announced an increase in the FY 2020 refined sugar TRQ of 181,437 MTRV. USTR is allocating 5,000 MTRV of the additional quantity to Canada and the rest of the increase (176,437 MTRV) to the global tariff-rate quota, which may be supplied by any country on a first-come, first-served basis in seven tranches as follows:

Month | Day | FY 2020 refined sugar TRQ increased allocation (MTRV)
April | 13 | 95,000
April | 27 | 20,000
May | 11 | 15,000
May | 18 | 12,000
June | 1 | 12,000
June | 15 | 12,000
June | 29 | 10,437

No certificate for quota eligibility is required for sugar entering under the global TRQ for refined sugar.

Gregory Doud,
Chief Agricultural Negotiator. Office of the United States Trade Representative.

[FR Doc. 2020-07502 Filed 4-8-20; 8:45 am]

BILLING CODE 3290-F0-P